DEPARTMENT OF HEALTH AND HUMAN SERVICES

Centers for Medicare & Medicaid Services

[Document Identifier: CMS-10060, CMS-37, and CMS-10117, 10118, 10119, 10135, 10136]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Quality Assessment and Performance Improvement (QAPI) Project Completion Report and Supporting Regulations in 42 CFR 422.152; Use: This project completion report derives from the Quality Improvement System for Managed Care (QISMC) Standards and Guidelines as required by the Balanced Budget Act of 1997 (as amended by Balanced Budget Refinement Act of 1999) and the related regulations, 42 CFR 422.152. These regulations established QISMC as a requirement for Medicare Advantage Organizations (MAOs) by requiring improved health outcomes for enrolled beneficiaries. The provisions of QISMC specify that MAOs will implement and evaluate quality improvement projects. The form submitted herein will permit MAOs to report their completed projects to CMS in a standardized fashion for evaluation by CMS of the MAO's compliance with regulatory provisions. This form will improve consistency and reliability in the CMS evaluation process, as well as provide a standardized structure for public use and review; Form Number: CMS-10060 (OMB No.: 0938-0873); Frequency: Annually; Affected Public: Business or other for-profit and Not-for-profit institutions; Number of Respondents: 155; Total Annual Responses: 155; Total Annual Hours: 620.

2. Type of Information Collection Request: Revision of a currently approved collection; Title of Information Collection: Medicaid Program Budget Report; Form Nos.: CMS-37 (OMB No. 0938-0101); Use: The Medicaid Program Budget Report is prepared by the State Medicaid Agencies and is used by the Centers for Medicare & Medicaid Services (CMS) for (1) developing National Medicaid Budget estimates, (2) qualification of Budget Estimate Changes, and (3) the issuance of quarterly Medicaid Grant Awards. The structure of the currently approved CMS-37 was revised based on CMS experience with budget information provided by the States. (Note: Details are outlined in the Addendum which can be found on the CMS Web site address below.) Frequency: Quarterly; Affected Public: State, local or tribal government; Number of Respondents: 56; Total Annual Responses: 224; Total Annual Hours: 7,616.

3. Type of Information Collection Request: Revision of a currently approved collection; Title of Information Collection: Medicare Advantage Application for Coordinated Care, Private Fee-for-Service, Regional Preferred Provider Organization, Service Area Expansion for Coordinated Care and Private Fee-for-Service Plans, Medical Savings Account Plans; Form Nos.: CMS-10117, 10118, 10119, 10135, 10136 (OMB No. 0938-0935); Use: Health plans must meet certain regulatory requirements to enter into a contract with CMS to provide health benefits to Medicare beneficiaries. These applications are the collection forms to obtain the information from a health plan that will allow CMS staff to determine compliance with the regulations; Frequency: Other—one-time submission; Affected Public: Business or other for-profit, Not-for-profit institutions, and State, local or tribal government; Number of Respondents: 370; Total Annual Responses: 520; Total Annual Hours: 20,100.

To obtain copies of the supporting statement and any related forms for the proposed paperwork collections referenced above, access CMS Web site address at http://www.cms.hhs.gov/regulations/pra/, or e-mail your request, including your address, phone number, OMB number, and CMS document identifier, to Paperwork@cms.hhs.gov, or call the Reports Clearance Office on (410) 786-1326.

Written comments and recommendations for the proposed information collections will be considered if they are mailed within 30 days of this notice directly to the OMB desk officer:

OMB Human Resources and Housing Branch, Attention: Christopher Martin, New Executive Office Building, Room 10235, Washington, DC 20503.

Dated: July 15, 2005.
Michelle Shortt,
Acting Director, Regulations Development Group, Office of Strategic Operations and Regulatory Affairs.

[FR Doc. 05-14474 Filed 7-21-05; 8:45 am]

BILLING CODE 4120-01-P